DEPARTMENT OF COMMERCE

Foreign-Trade Zones Board

[B-61-2015]

Foreign-Trade Zone (FTZ) 119—Minneapolis-St. Paul, Minnesota; Notification of Proposed Production Activity; CNH Industrial America, LLC (Agricultural Equipment and Related Subassemblies and Attachments); Benson, Minnesota

CNH Industrial America, LLC (CNH) submitted a notification of proposed production activity to the FTZ Board for its facilities located in Benson, Minnesota. The notification conforming to the requirements of the regulations of the FTZ Board (15 CFR 400.22) was received on September 8, 2015.

A separate application for subzone designation at the CNH facilities will be submitted and will be processed under Section 400.31 of the FTZ Board's regulations. The facilities are used for the production of agricultural equipment, subassemblies and attachments. Pursuant to 15 CFR 400.14(b), FTZ activity would be limited to the specific foreign-status materials and components and specific finished products described in the submitted notification (as described below) and subsequently authorized by the FTZ Board.

Production under FTZ procedures could exempt CNH from customs duty payments on the foreign-status components used in export production. On its domestic sales, for the foreign-status inputs noted below, CNH would be able to choose the duty rates during customs entry procedures that apply to: Sprayers for agricultural chemical or water application; floaters for agricultural chemical or water application; flexair applicators (attachments for floaters); cotton harvesters; liquid applicators (attachments for tractors); cotton drums (attachments for cotton harvesters); sprayer axle castings (subassemblies for sprayers); and, pull-type sprayers (attachments for tractors) (duty rates are free or 2.5%). Customs duties also could possibly be deferred or reduced on foreign-status production equipment.

The components and materials sourced from abroad include: Articles of plastic (hoses, pipes and tubes with fittings; j-flex/thermoplastic/wire reinforced tubes, pipes and fittings; caution decals; caps; steering wheel knobs; thrust washers; air ducts; plugs; clamps and seals); silicon hoses and hose assemblies; articles of rubber (seals; o-rings; gaskets; elbows; reinforced hoses and hose assemblies; reinforced hoses with or without fittings; hydraulic hoses; transmission belts; vulcanized belts; v-belts; drive belts; belt assemblies; drive belt assemblies; buffers; floor mats; liners; sealing washers; shock absorbers; insulators; and blocks); coated paperboard gaskets; paper mat protectors; training manuals; drawings; schematics; catalogs; diamond braid polyester rope with acrylic core for sprayers; powder coat anti-skid mats and strips for steps; carbon and graphite exhaust gaskets; glass for cabs; windshield glass; mirrors and mirror assemblies; cold-rolled iron/steel hollow tubes; galvanized steel tubes; stainless steel tubes; alloy steel cold-rolled tubes; iron/non-alloy steel fittings, elbows and stems; steel/zinc-plated steel hydraulic connectors; iron/non-alloy steel fittings, o-rings and connectors; zinc-plated steel connector tees; copper/zinc-plated steel/galvanized steel cables; cable assemblies; metal ropes; wire ropes; iron/steel chains, chain assemblies and links; zinc-plated steel chains; safety chains; zinc-plated steel chain kits and chain assemblies; zinc-plated steel link and link assemblies; articles of steel (screws; bolts; pins; fasteners; carriage bolts; u-bolts; steering column screws; weld nuts; stud ball pins; washers; rivets; spring clips, circle pins; hinges; hitch pins; rod assemblies; springs; brackets; clamps; retaining straps; collars and button-plugs); tinned copper ground straps; ground cables; aluminum/copper/steel rivets and springs; hex wrench sets; hammers; gathering chain tool assemblies; latches; locks and lock assemblies; door handles with locks; ignition keys; hinges; gas struts; angles; brackets; supports; mounts; dampers; plugs; radiator caps; covers; dust caps; decals; name plates; identity plates; emblems; 6-cylinder engines for sprayers and floaters; propulsion engines for sprayers and floaters for agricultural use; air intake tubes; hydraulic cylinders; hydraulic motors; pneumatic engine pistons; fuel injection pumps for engines; master cylinders; hydraulic pumps; pumps ; pump controls; fans; fan assemblies; blowers; blower assemblies; air compressors; fan couplings; heater cores; condensers; condenser assemblies; water filters; water screens; water strainers; fuel filters; hydraulic filters; filter receiver dryers; thermostats; air filters; air cleaners and assemblies; catalytic converters; air cleaner housing assemblies; sprayer nozzles; jacks; lift cylinders; counterweights; mufflers; valve plates; supporting brackets; buckets; bucket attachments; channels; wrist rest assemblies; frames with tracks; shovel brackets; baffles; shovel discs; steering arms; rear axles; drum drive assemblies; drums; drum assemblies; air ducts; headers; pulley housings; link assemblies; hubs; grain pans; accumulators; commutator brushes and straps; wiper brushes; fuel and water conversion kits; wiper blades and assemblies; hydraulic valves; copper/iron/steel non-returnable check valves; poppet valves; control valves; drain cocks and assemblies; shut-off valves; fitting kits; solenoid valves; valve covers; valve manifolds; pistons; connecting and coupling blocks; cylinder caps; cartridges; control blocks; pistons; hydraulic control valves; ball bearings; bearing sets and assemblies; bushings; cup bearings; thrust washers; tapered bearings and assemblies; roller bearings; cone bearings; shims; spacers; shafts; bearing housings; bearing carriers; bearing supports; gearbox assemblies; gears; gear sets; pulleys; idlers; belt tensioners; clutches; dampers; gaskets; engine gaskets and kits; seal kits; oil seals; seal repair kits; taper fasteners; ballast assemblies; wiper motors; starter motors; actuators; window adjustment motors; instrument and control motors; motor kits; DC converters; magnets; magnetic rings; solenoids; coils; wet and dry batteries; starter motors; alternators; head/rear/work lamps; visual signaling equipment; alarms; horns; buzzers; wiper blades; heaters; heater blocks; speakers; radars; true ground sensors; radios; radio parts; monitors; radio antennas; beacon lights; electric throttle assemblies; potentiometers; sensors; fuses; electrical timers; ignition switches; switch assemblies; unloading switches; rectifiers; programmable controllers; instrument control assemblies; shifter circuit kits; electrical connectors; wire connectors; printed circuit boards; housing contacts; lamps; bulbs; pressure and humidity sensors; cables; ground cables; electrical wires; electrical cable; wire harnesses; antenna cables; sprayer cabs; monitor tubes, housings, instrument panels, hoods, covers, and handles for sprayer and floater cabs; brake pipes; gearbox covers; axles, hubs, axle inserts, wheels, shock absorbers, arms, housings, castings, radiators, exhaust system pipes, mufflers, clutches, steering columns, bracket assemblies, booms, casting supports, frames, handrails, steering cylinder mounts and levers for tractor/floater/sprayer attachments; temperature sensors; fuel sender units; flow meters; instrument clusters; tachometers; instrument panels; seats; and armrests (duty rates range from duty-free to 9.9%).

Public comment is invited from interested parties. Submissions shall be addressed to the FTZ Board's Executive Secretary at the address below. The closing period for their receipt is November 2, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: September 10, 2015.
Andrew McGilvray,
Executive Secretary.

[FR Doc. 2015-23644 Filed 9-18-15; 8:45 am]

BILLING CODE 3510-DS-P